DEPARTMENT OF COMMERCE

International Trade Administration

[A-583-856]

Certain Corrosion-Resistant Steel Products From Taiwan: Final Results of the Antidumping Duty Administrative Review and Final Determination of No Shipments; 2021-2022

AGENCY: Enforcement and Compliance, International Trade Administration, Department of Commerce.

SUMMARY: The U.S. Department of Commerce (Commerce) determines that producers/exporters subject to this review made sales of subject merchandise at less than normal value (NV) during the period of review (POR) July 1, 2021, through June 30, 2022. We further determine that Xxentria Technology Materials Company Ltd. (Xxentria) had no shipments of subject merchandise during the POR.

DATES: Applicable December 8, 2023.

FOR FURTHER INFORMATION CONTACT: Matthew Palmer or Deborah Cohen, AD/CVD Operations, Office III, Enforcement and Compliance, International Trade Administration, U.S. Department of Commerce, 1401 Constitution Avenue NW, Washington, DC 20230; telephone: (202) 482-1678 and (202) 482-4521, respectively.

SUPPLEMENTARY INFORMATION:

Background

On August 2, 2023, Commerce published the Preliminary Results for this administrative review and invited interested parties to comment.¹ On September 6, 2022, pursuant to section 751(a)(1) of the Tariff Act of 1930, as amended (the Act), Commerce initiated an administrative review of the Order covering 11 respondents.² However, pursuant to the final judgment of the U.S. Court of International Trade (the Court) in Prosperity V,³ concerning the litigation for the underlying less-than-fair-value (LTFV) investigation of the Order,⁴ Commerce issued an amended final antidumping duty determination of sales at LTFV which reflects a below de minimis margin for the collapsed YP/Synn entity which resulted in the exclusion of YP and Synn from the Order and all subsequent segments of the proceeding, including the instant administrative review.⁵ Accordingly, the Preliminary Results provided notification of the discontinuation of the instant administrative review with respect to a respondent selected for individual examination, YP, and a non-selected respondent, Synn.⁶ As a result, Prosperity remains the sole individually-examined respondent in this review.

¹ See Certain Corrosion-Resistant Steel Products from Taiwan: Preliminary Results of Antidumping Duty Administrative Review and Preliminary Determination of No Shipments; 2021-2022, 88 FR 50836 (August 2, 2023) (Preliminary Results), and accompanying Preliminary Decision Memorandum (PDM).

² The respondents are: (1) Yieh Phui Enterprise Co., Ltd. (YP); (2) Prosperity Tieh Enterprise Co., Ltd. (Prosperity); (3) Sheng Yu Steel Co., Ltd. (SYSCO); (4) Synn Industrial Co., Ltd. (Synn); (5) China Steel Corporation (CSC); (6) Chung Hung Steel Corporation (CHSC); (7) Great Fortune Steel Co., Ltd. (Great Fortune); (8) Great Grandeul Steel Co., Ltd. (Great Grandeul); (9) Great Grandeul Steel Company Limited (Somoa) (also known as, Great Grandeul Steel Company Limited Somoa) (Great Grandeul Somoa); (10) Great Grandeul Steel Corporation (Great Grandeul Steel); and (11) Xxentria. See Initiation of Antidumping and Countervailing Duty Administrative Reviews, 87 FR 54463 (September 6, 2022).

³ See Prosperity Tieh Enterprise Co., Ltd. and Yieh Phui Enterprise Co., Ltd. v. United States, Consolidated Court No. 16-00138, Slip Op. 23-95 (CIT 2023) (Prosperity V).

⁴ See Certain Corrosion-Resistant Steel Products from India, Italy, the People's Republic of China, the Republic of Korea and Taiwan: Amended Final Affirmative Antidumping Determination for India and Taiwan, and Antidumping Duty Orders, 81 FR 48390 (July 25, 2016) (Order).

⁵ See Corrosion-Resistant Steel Products from Taiwan: Notice of Third Amended Final Determination of Sales at Less Than Fair Value Pursuant to Court Decision and Partial Exclusion from Antidumping Duty Order, 88 FR 58245 (August 25, 2023) (Third Amended Final Determination).

⁶ See Preliminary Results, 88 FR at 50836.

We received a case brief from Cleveland-Cliffs Inc. and Steel Dynamics Inc. (collectively, the petitioners).⁷ A complete summary of the events that occurred since publication of the Preliminary Results is found in the Issues and Decision Memorandum.⁸ Commerce conducted this review in accordance with section 751(a) of the Act.

⁷ See Petitioners' Letter, “Petitioners' Case Brief,” dated September 1, 2023.

⁸ See Memorandum, “Issues and Decision Memorandum for the Final Results of Antidumping Duty Administrative Review: Certain Corrosion-Resistant Steel Products from Taiwan; 2021-2022,” dated concurrently with, and hereby adopted by, this notice (Issues and Decision Memorandum).

Scope of the Order

The product covered by the Order is flat-rolled steel products, either clad, plated, or coated with corrosion-resistant metals such as zinc, aluminum, or zinc-, aluminum-, nickel- or iron-based alloys, whether or not corrugated or painted, varnished, laminated, or coated with plastics or other non-metallic substances in addition to the metallic coating. For the full text of the scope of the Order, see the Issues and Decision Memorandum.

Analysis of the Comments Received

All issues raised in the case brief are addressed in the Issues and Decision Memorandum.⁹ A list of the issues which parties raised, and to which we respond in the Issues and Decision Memorandum, is attached in the appendix to this notice. The Issues and Decision Memorandum is a public document and is on file electronically via Enforcement and Compliance's Antidumping and Countervailing Duty Centralized Electronic System (ACCESS). ACCESS is available to registered users at https://access.trade.gov. In addition, a complete version of the Issues and Decision Memorandum can be accessed directly at https://access.trade.gov/public/FRNoticesListLayout.aspx.

⁹ Id.

Changes Since the Preliminary Results

Based on a review of the record and analysis of the comments received from the petitioners regarding our Preliminary Results, we made changes to the preliminary weighted-average dumping margins calculations for Prosperity and for respondents not selected for individual examination. For detailed information, see the Issues and Decision Memorandum.

Final Determination of No Shipments

In the Preliminary Results, Commerce preliminarily determined that Xxentria made no shipments of subject merchandise into the United States during the POR.¹⁰ We have not received any information to contradict this determination, nor comment in opposition to our preliminary finding. Furthermore, on August 23, 2023, Commerce was notified by U.S. Customs and Border Protection (CBP) that it has no record of any subject entries during the POR for Xxentria.¹¹ Therefore, we continue to determine that Xxentria made no shipments of subject merchandise during the POR. Consistent with our practice, we will instruct CBP to liquidate any existing entries of subject merchandise produced by Xxentria, but exported by other parties, at the rate for the intermediate reseller, if available, or at the all-others rate.¹²

¹⁰ See Preliminary Results, 88 FR at 50836-37.

¹¹ See Memorandum, “No Shipment Inquiry for Xxentria Technology Materials Co., Ltd. during the period 07/01/2021 through 06/30/2022,” dated August 23, 2023.

¹² See, e.g., Magnesium Metal from the Russian Federation: Preliminary Results of Antidumping Duty Administrative Review, 75 FR 26922, 26923 (May 13, 2010), unchanged in Magnesium Metal from the Russian Federation: Final Results of Antidumping Duty Administrative Review, 75 FR 56989 (September 17, 2010).

Rate for Respondents Not Selected for Individual Examination

For the rate assigned to companies not selected for individual examination in an administrative review, generally, Commerce looks to section 735(c)(5) of the Act, which provides instructions for calculating the all-others rate in a LTFV investigation. Under section 735(c)(5)(A) of the Act, the all-others rate is normally “an amount equal to the weighted average of the estimated weighted-average dumping margins established for exporters and producers individually investigated, excluding any zero or de minimis margins, and any margins determined entirely {on the basis of facts available}.”

In this administrative review, we have calculated a weighted-average dumping margin for the sole mandatory respondent, Prosperity, that is not zero, de minimis, or based entirely on facts available (i.e., 0.71 percent). Accordingly, we have assigned this rate to the non-selected respondents CSC, CHSC, Great Fortune, Great Grandeul, Great Grandeul Somoa, Great Grandeul Steel, and SYSCO.

Final Results of Review

Commerce preliminarily determines the following estimated weighted-average dumping margins exist for the period July 1, 2021, through June 30, 2022:

Exporter/producer | Weighted- average dumping margin (percent)
Prosperity Tieh Enterprise Co., Ltd | 0.71
China Steel Corporation | 0.71
Chung Hung Steel Corporation | 0.71
Great Fortune Steel Co., Ltd | 0.71
Great Grandeul Steel Co., Ltd | 0.71
Great Grandeul Steel Company Limited (Somoa) | 0.71
Great Grandeul Steel Corporation | 0.71
Sheng Yu Steel Co., Ltd | 0.71

Disclosure

We intend to disclose to interested parties the calculations and analysis performed for these final results within five days of the date of the publication of this notice in the Federal Register in accordance with 19 CFR 351.224(b).

Assessment Rates

Pursuant to section 751(a)(2)(C) of the Act and 19 CFR 351.212(b)(1), Commerce will determine, and CBP shall assess, antidumping duties on all appropriate entries of subject merchandise in accordance with the final results of this review. Pursuant to 19 CFR 351.212(b)(1), we calculated importer-specific ad valorem duty assessment rates based on the ratio of the total amount of dumping calculated for the examined sales to the total entered value of those sales. Where the respondent did not report entered value, we calculated the entered value in order to calculate the assessment rate. Where either the respondent's weighted-average dumping margin is zero or de minimis within the meaning of 19 CFR 351.106(c)(1), or an importer-specific assessment rate is zero or de minimis, we will instruct CBP to liquidate the appropriate entries without regard to antidumping duties.¹³ For entries of subject merchandise during the POR produced by Prosperity for which it did not know its merchandise was destined for the United States, we will instruct CBP to liquidate unreviewed entries at the all-others rate if there is no rate for the intermediate company(ies) involved in the transaction.

¹³ In these final results, Commerce applied the assessment rate calculation method adopted in Antidumping Proceedings: Calculation of the Weighted-Average Dumping Margin and Assessment Rate in Certain Antidumping Duty Proceedings; Final Modification, 77 FR 8101 (February 14, 2012).

The final results of this review shall be the basis for the assessment of antidumping duties on entries of merchandise covered by the final results of this review and for future deposits of estimated duties, where applicable.¹⁴

¹⁴ See section 751(a)(2)(C) of the Act.

For the companies which were not selected for individual examination, we will instruct CBP to assess antidumping duties at an ad valorem assessment rate equal to the company-specific weighted-average dumping margin determined in these final results. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of subject merchandise entered, or withdrawn from warehouse, for consumption on or after the publication date of the final results of this administrative review, as provided by section 751(a)(2)(C) of the Act: (1) the cash deposit rate for the companies listed above will be equal to the weighted-average dumping margins established in the final results of this administrative review; (2) for merchandise exported by producers or exporters not covered in this review but covered in a prior completed segment of the proceeding, the cash deposit rate will continue to be the company-specific rate published for the most recent period; (3) if the exporter is not a firm covered in this review, a prior review, or the original investigation, but the producer has been covered in a prior complete segment of this proceeding, then the cash deposit rate will be the rate established for the most recent period for the producer of the merchandise; (4) the cash deposit rate for all other manufacturers or exporters will continue to be 11.04 percent,¹⁵ the all-others rate from the Third Amended Final Determination.¹⁶ These cash deposit requirements, when imposed, shall remain in effect until further notice.

¹⁵ See Corrosion-Resistant Steel Products from Taiwan: Notice of Court Decision Not in Harmony with Final Determination of Antidumping Duty Investigation and Notice of Amended Final Determination of Investigation, 84 FR 6129 (February 26, 2019) (Amended Final Determination).

¹⁶ See Third Amended Determination, 88 FR at 58247.

Notification to Importers

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice also serves as a reminder to parties subject to an administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

Notification to Interested Parties

We are issuing and publishing these final results of administrative review in accordance with sections 751(a)(1) of the Act, and 19 CFR 351.221(b)(5).

Dated: November 21, 2023.
Abdelali Elouaradia,
Deputy Assistant Secretary for Enforcement and Compliance.

Appendix

List of Topics Discussed in the Issues and Decision Memorandum

I. Summary

II. Background

III. Scope of the Order

IV. Changes Since the Preliminary Results

V. Discussion of the Issues

Comment 1: Whether to Revise the Period Reviewed in the Comparison Market and Margin Calculation Programs

Comment 2: Whether to Revise Aggregate Price Adjustment Variables in the Margin Calculation Program

VI. Recommendation

[FR Doc. 2023-26998 Filed 12-7-23; 8:45 am]

BILLING CODE 3510-DS-P